DEPARTMENT OF THE INTERIOR

Fish and Wildlife Service

50 CFR Part 20

[Docket No. FWS-HQ-MB-2015-0034; FF09M21200-167-FXMB1231099BPP0]

RIN 1018-BA70

Migratory Bird Hunting; Seasons and Bag and Possession Limits for Certain Migratory Game Birds

AGENCY: Fish and Wildlife Service, Interior.

ACTION: Final rule; correction.

SUMMARY: We, the U.S. Fish and Wildlife Service, published a final rule in the Federal Register on July 25, 2016, that prescribes the hunting seasons, hours, areas, and daily bag and possession limits for migratory game birds during the 2016-17 season. Taking of migratory birds is prohibited unless specifically provided for by annual regulations. In that final rule, we identified several errors concerning season dates, and bag and possession limits, for certain States, as well as a number of formatting and other errors in tables and table notes. With this document, we correct those errors.

DATES: This correction is effective August 16, 2016.

FOR FURTHER INFORMATION CONTACT: Ron W. Kokel, Division of Migratory Bird Management, U.S. Fish and Wildlife Service, (703) 358-1714.

SUPPLEMENTARY INFORMATION: In a final rule published in the Federal Register on July 25, 2016, at 81 FR 48648, the following corrections are made:

1. On page 48652, § 20.103(a) is amended by revising the entry for Pennsylvania under the heading EASTERN MANAGEMENT UNIT in the table to read as follows:

§ 20.103 Seasons, limits, and shooting hours for doves and pigeons.

* * * * *

(a) * * *

| Season dates | Limits: Bag | Limits: Possession
EASTERN MANAGEMENT UNIT
Pennsylvania
12 noon to sunset | Sept. 1-Sept. 24 | 15 | 45
1/2 hour before sunrise to sunset | Sept. 26-Oct. 8 & | 15 | 45
| Oct. 15-Nov. 26 & Dec. 26-Jan. 3 | 15 15 | 45 45

* * * * *

2. On page 48656, § 20.104 is amended by revising table note (14) to read as follows:

§ 20.104 Seasons, limits, and shooting hours for rails, woodcock, and snipe.

* * * * *

(14) In Iowa, the limits for sora and Virginia rails are 12 daily and 36 in possession.

* * * * *

3. Section 20.105 is amended as follows:

a. On page 48657, in paragraph (c), by revising the entry for Iowa under the heading MISSISSIPPI FLYWAY in the table;

b. On page 48659, in paragraph (d), by revising table note (11);

c. In paragraph (e):

i. On pages 48660 through 48665, under the heading ATLANTIC FLYWAY, by revising the entries for Georgia, Maine, New Jersey, and Rhode Island in the table; by adding an entry for South Carolina in the table; and by revising table note (14);

ii. On pages 48668 through 48670, under the heading MISSISSIPPI FLYWAY, by revising the entries for Minnesota and Tennessee in the table, and by removing and reserving table note (6); and

iii. On page 48670, under the heading CENTRAL FLYWAY, in the introductory text under the heading “Duck Limits”, by removing the words “1 mottled duck,”; and

d. In paragraph (f), in the table:

i. On page 48678, under the heading MISSISSIPPI FLYWAY, by revising the entry for Iowa; and

ii. On page 48679, under the heading CENTRAL FLYWAY, by revising the entry for Kansas.

The revisions read as follows:

§ 20.105 Seasons, limits, and shooting hours for waterfowl, coots, and gallinules.

* * * * *

(c) * * *

| Season dates | Limits: Bag | Limits: Possession
* * * * * * *
MISSISSIPPI FLYWAY
* * * * * * *
Iowa (3):
North Zone | Sept. 3-Sept. 11 | 6 | 18
South Zone | Sept. 3-Sept. 11 | 6 | 18
Missouri River Zone | Sept. 3-Sept. 18 | 6 | 18
* * * * * * *

* * * * *

(d) * * *

* * * * *

(11) In Virginia, shooting hours are one-half hour before sunrise to one-half hour after sunset from September 1 to September 16, and one-half hour before sunrise to sunset from September 17 to September 25 in the area east of I-95 where the September teal season is open. Shooting hours are one-half hour before sunrise to one-half hour after sunset from September 1 to September 21, and one-half hour before sunrise to sunset from September 22 to September 25 in the area west of I-95.

* * * * *

(e) * * *

ATLANTIC FLYWAY

* * * * *

| Season dates | Limits: Bag | Limits: Possession
* * * * * * *
Georgia
Ducks | Nov. 19-Nov. 27 & | 6 | 18
| Dec. 10-Jan. 29 | 6 | 18
Mergansers | Same as for Ducks | 5 | 15
Coots | Same as for Ducks | 15 | 45
Canada Geese | Oct. 8-Oct. 23 & | 5 | 15
| Nov. 19-Nov. 27 & | 5 | 15
| Dec. 10-Jan. 29 | 5 | 15
Light Geese | Same as for Canada Geese | 5 | 15
Brant | Closed |  |
Maine
Ducks (2): |  | 6 | 18
North Zone | Sept. 26-Dec. 3 |  |
South Zone | Oct. 1-Oct. 15 & Nov. 1-Dec. 24 |  |
Coastal Zone | Oct. 1-Oct. 15 & Nov. 11-Jan. 4 |  |
Mergansers | Same as for Ducks | 5 | 15
Coots | Same as for Ducks | 5 | 15
Canada Geese:
North Zone | Oct. 1-Dec. 21 | 3 | 9
South Zone | Oct. 1-Oct. 27 & | 3 | 9
| Nov. 1-Dec. 24 | 3 | 9
Coastal Zone | Oct. 1-Oct. 27 & | 3 | 9
| Nov. 11-Jan. 4 | 3 | 9
Light Geese | Oct. 1-Jan. 31 | 25 |
Brant:
North Zone | Sept. 26-Dec. 3 | 2 | 6
South Zone | Oct. 1-Oct. 15 & | 2 | 6
| Nov. 1-Dec. 24 | 2 | 6
Coastal Zone | Oct. 1-Oct. 15 & | 2 | 6
| Nov. 11-Jan. 4 | 2 | 6
* * * * * * *
New Jersey
Ducks: |  | 6 | 18
North Zone | Oct. 8-Oct. 15 & Nov. 5-Jan. 5 |  |
South Zone | Oct. 22-Oct. 29 & Nov. 12-Jan. 12 |  |
Coastal Zone | Nov. 10-Nov. 12 & Nov. 24-Jan. 28 |  |
Mergansers | Same as for Ducks | 5 | 15
Coots | Same as for Ducks | 15 | 45
Canada and White-fronted Geese:
North Zone | Nov. 12-Nov. 26 & | 3 | 9
| Dec. 10-Jan. 21 | 3 | 9
South Zone | Nov. 12-Nov. 26 & | 3 | 9
| Dec. 10-Jan. 21 | 3 | 9
Coastal Zone | Nov. 10-Nov. 12 & | 5 | 15
| Nov. 24-Feb. 15 | 5 | 15
Special Season Zone | Jan. 23-Feb. 15 | 5 | 15
Light Geese:
North Zone | Oct. 17-Feb. 15 | 25 |
South Zone | Oct. 17-Feb. 15 | 25 |
Coastal Zone | Oct. 17-Feb. 15 | 25 |
Brant:
North Zone | Oct. 8-Oct. 15 & | 1 | 3
| Nov. 5-Jan. 5 | 1 | 3
South Zone | Oct. 22-Oct. 29 & | 1 | 3
| Nov. 12-Jan. 12 | 1 | 3
Coastal Zone | Nov. 10-Nov. 12 & | 1 | 3
| Nov. 24-Jan. 28 | 1 | 3
* * * * * * *
Rhode Island
Ducks | Oct. 7-Oct. 10 & | 6 | 18
| Nov. 23-Nov. 27 & | 6 | 18
| Dec. 3-Jan. 22 | 6 | 18
Mergansers | Same as for Ducks | 5 | 15
Coots | Same as for Ducks | 15 | 45
Canada Geese | Nov. 19-Nov. 27 & | 3 | 9
| Dec. 3-Jan. 30 | 3 | 9
Special season | Feb. 4-Feb. 10 | 5 | 15
Light Geese | Oct. 16-Jan. 30 | 25 |
Brant | Dec. 4-Jan. 22 | 2 | 6
South Carolina
Ducks (9)(10) | Nov. 12 & | 6 | 18
| Nov. 19-Nov. 26 & | 6 | 18
| Dec. 10-Jan. 29 | 6 | 18
Mergansers (11) | Same as for Ducks | 5 | 15
Coots | Same as for Ducks | 15 | 45
Canada and White-fronted Geese (12) | Nov. 19-Nov. 26 & | 5 | 15
| Dec. 10-Jan. 29 & | 5 | 15
| Feb. 12-Feb. 27 | 5 | 15
Light Geese | Nov. 19-Nov. 26 & | 25 |
| Dec. 10-Jan. 29 & | 25 |
| Feb. 12-Feb. 27 | 25 |
Brant | Nov. 19-Nov. 26 & | 2 | 6
| Dec. 10-Jan. 29 | 2 | 6
* * * * * * *

* * * * *

(14) In West Virginia, the season is closed for eiders, whistling ducks, and mottled ducks.

* * * * *

MISSISSIPPI FLYWAY

* * * * *

| Season dates | Limits: Bag | Limits: Possession
* * * * * * *
Minnesota
Ducks: | 6 | 18
North Zone | Sept. 24-Nov. 22
Central Zone | Sept. 24-Oct. 2 &
| Oct. 8-Nov. 27
South Zone | Sept. 24-Oct. 2 & Oct. 15-Dec. 4
Mergansers | Same as for Ducks | 5 | 15
Coots (5) | Same as for Ducks | 15 | 45
Dark Geese (1):
North Zone | Sept. 3-Sept. 18 & | 5 | 15
| Sept. 24-Dec. 23 | 3 | 9
Central Zone | Sept. 3-Sept. 18 & | 5 | 15
| Sept. 24-Oct. 2 & | 3 | 9
| Oct. 8-Dec. 28 | 3 | 9
South Zone | Sept. 3-Sept. 18 & | 5 | 15
| Sept. 24-Oct. 2 & | 3 | 9
| Oct. 15-Jan. 4 | 3 | 9
Light Geese:
North Zone | Same as for Dark Geese | 20 | 60
Central Zone | Same as for Dark Geese | 20 | 60
South Zone | Same as for Dark Geese | 20 | 60
* * * * * * *
Tennessee
Ducks: |  | 6 | 18
Reelfoot Zone | Nov. 12-Nov. 13 &
| Dec. 3-Jan. 29
Rest of State | Nov. 26-Nov. 27 &
| Dec. 3-Jan. 29
Mergansers | Same as for Ducks | 5 | 15
Coots | Same as for Ducks | 15 | 45
Canada Geese:
Northwest Zone | Sept. 1-Sept. 15 & | 5 | 15
| Oct. 8-Oct. 12 & | 5 | 15
| Nov. 12-Nov. 13 & | 5 | 15
| Dec. 3-Feb. 11 | 5 | 15
Rest of State | Sept. 1-Sept. 15 & | 5 | 15
| Oct. 8-Oct. 25 & | 5 | 15
| Nov. 26-Nov. 27 & | 5 | 15
| Dec. 3-Jan. 29 | 5 | 15
White-fronted Geese:
Northwest Zone | Nov. 26-Nov. 27 & | 2 | 6
| Dec. 3-Feb. 11 | 2 | 6
Rest of State | Same as Northwest Zone | 2 | 6
Brant:
Northwest Zone | Nov. 26-Nov. 27 & | 2 | 6
| Dec. 3-Jan. 29 | 2 | 6
Rest of State | Same as Northwest Zone | 2 | 6
Light Geese | Same as White-fronted Geese | 20
* * * * * * *

* * * * *

(f) * * *

| Season dates
* * * * * * *
MISSISSIPPI FLYWAY
* * * * * * *
Iowa |
Ducks, mergansers, coots |
North Zone | Sept. 17 & 18.
Missouri River Zone | Oct. 1 & 2.
South Zone | Sept. 24 & 25.
* * * * * * *
CENTRAL FLYWAY
* * * * * * *
Kansas (7) |
Ducks, geese, mergansers, and coots: |
High Plains | Oct. 1 & 2.
Low Plains: |
Early Zone | Oct. 1 & 2.
Late Zone | Oct. 22 & 23.
Southeast Zone | Nov. 5 & 6.
* * * * * * *

* * * * *

4. Amend § 20.109 by:

a. On page 48682, revising the entry for New York under the heading ATLANTIC FLYWAY in the table; and

b. On page 48683, revising the entry for Montana under the heading CENTRAL FLYWAY in the table.

The revisions read as follows:

§ § 20.109 Extended seasons, limits, and hours for taking migratory game birds by falconry.

* * * * *

| Extended falconry dates
ATLANTIC FLYWAY
* * * * * * *
New York |
Ducks, mergansers and coots: |
Long Island Zone | Nov. 1-Nov. 23 & Nov. 28-Dec. 4 & Jan. 30-Feb. 13.
Northeastern Zone | Oct. 1-Oct. 7 & Oct. 31-Nov. 4 & Dec. 12-Jan. 13.
Southeastern Zone | Oct. 11-Nov. 11 & Jan. 1-Jan. 13.
Western Zone | Oct. 1-Oct. 21 & Dec. 5-Dec. 30.
* * * * * * *
CENTRAL FLYWAY
* * * * * * *
Montana (2) |
Ducks, mergansers, and coots | Sept. 21-Sept. 30.
* * * * * * *

* * * * *

Dated: August 10, 2016.
Tina A. Campbell,
Chief, Division of Policy, Performance, and Management Programs.

[FR Doc. 2016-19447 Filed 8-15-16; 8:45 am]

BILLING CODE 4333-15-P